INTERNATIONAL TRADE COMMISSION

[Investigation Nos. 731-TA-539 C, E, and F (Review)]

In the Matter of Uranium From Russia, Ukraine, and Uzbekistan; Notice of Commission Determination To Conduct a Portion of the Hearing In Camera

AGENCY: International Trade Commission.

ACTION: Closure of a portion of a Commission hearing.

SUMMARY: Upon requests of the parties, the Ministry of the Russian Federation for Atomic Energy (“Russian respondents”), the Republic of Uzbekistan (“Uzbekistan respondents”), and the Uranium Coalition,¹ the Commission has determined to conduct a portion of its hearing in the above-captioned reviews scheduled for June 13, 2000, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

¹ The Uranium Coalition consists of the Ad Hoc Committee of Domestic Uranium Producers, the Paper, Allied-Industrial, Chemical and Energy Workers International Union, AFL-CIO, and USEC, Inc. and its wholly-owned subsidiary United States Enrichment Corporation.

FOR FURTHER INFORMATION CONTACT: Robin L. Turner, Office of General Counsel, U.S. International Trade Commission, telephone 202-205-3103, e-mail rturner@usitc.gov. Hearing-impaired individuals are advised that information on this matter may be obtained by contacting the Commission's TDD terminal on 202-205-1810.

SUPPLEMENTARY INFORMATION: The Commission believes that the parties have justified the need for a closed session. In these reviews, significant data for both the foreign and domestic industries are business proprietary. The parties seek a closed session in order to fully address the issues before the Commission without referring to business proprietary information (BPI). In making this decision, the Commission nevertheless reaffirms its belief that whenever possible its business should be conducted in public.

The hearing will begin with public presentations by the Uranium Coalition, domestic parties opposing revocation of the antidumping duty order and suspension agreements, and by Russian and Uzbekistan respondents in support of revocation. During the public session, the Commission may question the parties following their respective presentations. Next, the hearing will include a 15-minute in camera session for a confidential presentation by the Uranium Coalition and for questions from the Commission relating to the BPI, followed by a 15-minute in camera session for confidential presentation by the Russian and Uzbekistan respondents and for questions from the Commission. Each side will be permitted to use any portion of their allotted in camera time for in camera rebuttal presentations. For any in camera session the room will be cleared of all persons except those who have been granted access to BPI under a Commission administrative protective order (APO) and are included on the Commission's APO service list in these investigations. See 19 CFR 201.35(b)(1), (2). The time for the parties' presentations and rebuttals in the in camera session will be taken from their respective overall time allotments for the hearing. All persons planning to attend the in camera portions of the hearing should be prepared to present proper identification.

Authority: The General Counsel has certified, pursuant to Commission Rule 201.39 (19 CFR 201.39) that, in her opinion, a portion of the Commission's hearing in Uranium from Russia, Ukraine, and Uzbekistan, Inv. Nos. 731-TA-539-C, E, and F (Review), may be closed to the public to prevent the disclosure of BPI.

Issued: June 9, 2000.
By order of the Commission.
Donna R. Koehnke,
Secretary.

[FR Doc. 00-15194 Filed 6-14-00; 8:45 am]

BILLING CODE 7020-02-P